Proclamation 8489 of April 1, 2010

National Cancer Control Month, 2010

By the President of the United States of America

A Proclamation

Cancer is among the leading causes of death in our country, taking over half a million American lives in the past year alone. This illness has stricken countless individuals and families in communities across our Nation, but the future holds untold promise. We continue to make monumental strides in managing and understanding cancer, and rates of new cases and deaths have declined for men and women overall in recent years. During National Cancer Control Month, let us renew our commitment to combat this disease by raising awareness and supporting the development of life-saving treatments.

With simple, everyday activities, we all can take steps to protect ourselves and our loved ones from cancer. Americans should discuss preventive care with a health professional. Getting regular check-ups and screenings can help reduce the risk of developing certain cancers and help detect cancer early, when it is most treatable. Changing unhealthy habits can often help prevent cancer before it forms. By limiting sun exposure and alcohol consumption, avoiding tobacco, exercising regularly, and maintaining a nutritious diet, we can each reduce our risk of developing cancer. I encourage all who are struggling to quit smoking to visit SmokeFree.gov for resources and information.

My Administration is committed to supporting every American who is fighting cancer, and we have invested in innovative research through the National Institutes of Health to develop more effective treatments. While cancer affects people of every background and economic status, disparities exist between races, ethnicities, and incomes regarding the likelihood of survival. Community cancer centers will play an important role in closing these gaps and bringing hope to underserved citizens.

Like too many Americans, I know the pain of losing a loved one to cancer, and I carry the memory of my mother’s courage with me each day. Inspired by the stories and tenacity of patients and survivors, and guided by our love for those we have lost, we will one day triumph over this devastating illness.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2010 as National Cancer Control Month. I call upon citizens, government agencies, organizations, health care providers, and research institutions to raise cancer awareness and continue helping Americans live longer, healthier lives.

IN WITNESS WHEREOF, I have hereunto set my hand this first day of April, in the year of our Lord two thousand ten, and of the Independence of the United States of America the two hundred and thirty-fourth.

[FR Doc. 2010-8021

Filed 4-6-10; 8:45 am]

Billing code 3195-W0-P